DEPARTMENT OF COMMERCE

Technology Administration

RIN 0692-AA08

National Medal of Technology's Call for Nominations 2005

AGENCY: Technology Administration, Department of Commerce.

ACTION: Announcement: call for nominations for the National Medal of Technology 2005.

SUMMARY: The Department of Commerce's Technology Administration is accepting nominations for its National Medal of Technology (NMT) 2005 program.

Established by Congress in 1980, the President of the United States awards the National Medal of Technology annually to our Nation's leading innovators. If you know of a candidate who has made an outstanding contribution in technology, obtain a nomination form from: http://www.technology.gov/medal.

DATES: The deadline for submission of an application is July 28, 2004.

ADDRESSES: The NMT Nomination form for the year 2005 can be obtained by visiting the Web site at http://www.technology.gov/medal. Please return the completed application to Mildred Porter, Director of the NMT program, at: NMT@technology.gov.

FOR FURTHER INFORMATION CONTACT: Mildred Porter, Director, at NMT@technology.gov or call 202/482-5572.

SUPPLEMENTARY INFORMATION: The National Medal of Technology is the highest honor awarded by the President of the United States to America's leading innovators. Enacted by Congress in 1980, the Medal of Technology was first awarded in 1985. The Medal is given annually to individuals, teams, or companies who have improved the American economy and quality of life by their outstanding contributions through technology.

The primary purpose of the National Medal of Technology is to recognize American innovators whose vision, creativity, and brilliance in moving ideas to market have had a profound and lasting impact on our economy and way of life. The Medal highlights the national importance of fostering technological innovation based upon solid science, resulting in commercially successful products and services.

Dated: May 3, 2004.
Ben H. Wu,
Deputy Under Secretary for Technology, Technology Administration.

[FR Doc. 04-10711 Filed 5-11-04; 8:45 am]

BILLING CODE 3510-18-P